DEPARTMENT OF TRANSPORTATION

Surface Transportation Board

[STB Finance Docket No. 34387]

R.J. Corman Railroad Company/Central Kentucky Lines—Lease and Operation Exemption—Lines of R.J. Corman Equipment Company, LLC

R.J. Corman Railroad Company/Central Kentucky Lines (RJCK), a Class III rail carrier, has filed a verified notice of exemption under 49 CFR 1150.41 to lease from R.J. Corman Equipment Company, LLC (RJCE) and to operate 100.04 miles of RJCE's line of railroad and associated branch lines. The line extends from approximately milepost 12.49 at HK Tower in Anchorage, KY (near Louisville), to approximately milepost 113.81 in Winchester, KY, a distance of approximately 91.48 miles.¹ The associated branch lines include: (1) The Bloomfield Branch, extending from a connection with the Old Road main line at milepost 30.64 to milepost 33.71, a distance of approximately 3.07 miles, in Shelbyville, KY; and (2) the Chilesburg Branch, extending from a connection with the Old Road main line at milepost 643.90 in Lexington, KY (milepost 97.74 on the Old Road main line), to milepost 638.41 near Cadentown, KY, a distance of approximately 5.49 miles. RJCK will also lease and operate certain industrial, spur and yard tracks in Lexington and Frankfort, KY. RJCK will operate and provide all rail common carrier service on the Old Road. CSXT will retain overhead trackage rights on the portion of the Old Road between Winchester and Lexington.

¹ There are milepost equations at Christianburg, KY, where milepost 39.52 = milepost 49.46; at Lexington, KY, where milepost 93.43 = 96.89; and near Montrose, KY, where milepost 102.76 = milepost 99.20.

Based on projected annual revenues for the line, RJCK states that it expects to remain a Class III rail carrier after consummation of the proposed transaction. It certifies that its projected annual revenues do not exceed those that would qualify it as a Class III rail carrier. Nevertheless, RJCK certified to the Board on July 31, 2003, that it had posted a 60-day notice of intent to undertake the proposed transaction at the workplace of the employees on the affected line and that it had served a copy of the notice of intent on the national offices of all labor unions with employees on the rail line. See 49 CFR 1150.42(e).

RJCK states that it intends to consummate the transaction on September 30, 2003 (60 days after its certification to the Board under 49 CFR 1150.42(e)), and commence operations on October 1, 2003.

This transaction is related to STB Finance Docket No. 34386, R.J. Corman Equipment Company, LLC—Acquisition Exemption—Lines of CSX Transportation, Inc., wherein RJCE seeks to acquire the line and associated branch lines from CSX Transportation, Inc.

If the verified notice contains false or misleading information, the exemption is void ab initio. Petitions to revoke the exemption under 49 U.S.C. 10502(d) may be filed at any time. The filing of a petition to revoke will not automatically stay the transaction.

An original and 10 copies of all pleadings, referring to STB Finance Docket No. 34387, must be filed with the Surface Transportation Board, 1925 K Street, NW., Washington, DC 20423-0001. In addition, a copy of each pleading must be served on Ronald A. Lane, Fletcher & Sippel LLC, 29 North Wacker Drive, Suite 920, Chicago, IL 60606-2875.

Board decisions and notices are available on our Web site at http://www.stb.dot.gov.

Decided: September 8, 2003.
By the Board, David M. Konschnik, Director, Office of Proceedings.
Vernon A. Williams,
Secretary.

[FR Doc. 03-23258 Filed 9-11-03; 8:45 am]

BILLING CODE 4915-00-P